NUCLEAR REGULATORY COMMISSION

Advisory Committee on Reactor Safeguards (ACRS); Meeting of the ACRS Future Plant Designs Subcommittee

Notice of Meeting

The ACRS Subcommittee on Future Plant Designs will hold a meeting on July 7, 2009, Commission Hearing Room, 11555 Rockville Pike, Rockville, Maryland.

The meeting will be open to public attendance.

The agenda for the subject meeting shall be as follows:

Tuesday, July 7, 2009—1:30 p.m.-5 p.m.

The Subcommittee will review the draft final Regulatory Guide 1.215 (DG-1204), “Guidance for ITAAC Closure under 10 CFR part 52,” and the Nuclear Energy Institute (NEI) guidance document NEI 08-01, Revision 3, “Industry Guideline for the ITAAC Closure Process Under 10 CFR part 52.” The Subcommittee will hear presentations by and hold discussions with representatives of the NRC staff, NEI, and other interested persons regarding this matter. The Subcommittee will gather information, analyze relevant issues and facts, and formulate proposed positions and actions, as appropriate, for deliberation by the Full Committee.

Members of the public desiring to provide oral statements and/or written comments should notify the Designated Federal Official, Mr. Girija Shukla, (Telephone: 301-415-6855) five days prior to the meeting, if possible, so that appropriate arrangements can be made. Electronic recordings will be permitted. Detailed procedures for the conduct of and participation in ACRS meetings were published in the Federal Register on October 6, 2008 (73 FR 58268-58269).

Further information regarding this meeting can be obtained by contacting the Designated Federal Official between 7:15 a.m. and 5 p.m. (ET). Persons planning to attend this meeting are urged to contact the above named individual at least two working days prior to the meeting to be advised of any potential changes to the agenda.

Dated: June 10, 2009.
Antonio F Dias,
Chief, Reactor Safety Branch B, Advisory Committee on Reactor Safeguards.

[FR Doc. E9-14115 Filed 6-15-09; 8:45 am]

BILLING CODE 7590-01-P